DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than December 13, 2018.

Interested persons are invited to submit written comments regarding the subject matter of the investigations to the Director, Office of Trade Adjustment Assistance, at the address shown below, not later than December 13, 2018.

The petitions filed in this case are available for inspection at the Office of the Director, Office of Trade Adjustment Assistance, Employment and Training Administration, U.S. Department of Labor, Room N-5428, 200 Constitution Avenue NW, Washington, DC 20210.

Signed at Washington, DC, this 30th day of October 2018.
Hope D. Kinglock,
Certifying Officer, Office of Trade Adjustment Assistance.

Appendix
[116 TAA petitions instituted between 9/17/18 and 10/19/18]
TA-W | Subject firm (petitioners) | Location | Date of institution | Date of petition
94134A | Pro-Tech, Belcan, Cyient, IKOS (State/One-Stop) | Pittsburgh, PA | 09/17/18 | 09/14/18
94134 | Bombardier Transportation (Holdings) USA, Inc. (State/One-Stop) | Pittsburgh, PA | 09/17/18 | 09/14/18
94135 | QBE Americas Inc. (State/One-Stop) | Moon Township, PA | 09/17/18 | 09/17/18
94136 | Kranos Corporation dba Schutt Sports (Company) | Easton, PA | 09/17/18 | 09/12/18
94137 | Acuity Brands Lighting, Inc. (State/One-Stop) | Des Plaines, IL | 09/18/18 | 09/17/18
94138 | Bose Corporation (State/One-Stop) | Westborough, MA | 09/18/18 | 09/13/18
94139 | Kodak Alaris (State/One-Stop) | Rochester, NY | 09/18/18 | 09/17/18
94140 | Xero INC (Workers) | San Francisco, CA | 09/18/18 | 09/17/18
94141 | Formosa Plastics Corporation (Union) | Delaware City, DE | 09/19/18 | 09/06/18
94142 | Hewlett Packard Enterprise (State/One-Stop) | Palo Alto, CA | 09/19/18 | 09/18/18
94143 | Verizon Business Network Services (State/One-Stop) | Ashburn, VA | 09/19/18 | 09/18/18
94144 | Walmart Optical Lab, #9065 (Workers) | Crawfordsville, IN | 09/19/18 | 09/17/18
94145 | Carter Fuel Systems (State/One-Stop) | Logansport, IN | 09/20/18 | 09/18/18
94146 | DJO Global (State/One-Stop) | New Brighton, MN | 09/20/18 | 09/18/18
94147 | Handi-Foil Corporation (State/One-Stop) | Wheeling, IL | 09/20/18 | 09/18/18
94148 | Sony DADC (State/One-Stop) | Terre Haute, IN | 09/20/18 | 09/18/18
94149 | Global Foundries U.S., Inc. (State/One-Stop) | Malta, NY | 09/21/18 | 09/20/18
94150 | Healthcare Management Administrators, Inc. (HMA) (State/One-Stop) | Bellevue, WA | 09/21/18 | 09/18/18
94151 | HSBC Technology and Services, USA (HTSU) (State/One-Stop) | Buffalo, NY | 09/21/18 | 09/20/18
94152 | MOL Information Technology America Inc. (Workers) | Woodbridge, NJ | 09/21/18 | 09/12/18
94153 | Respironics Novametrix, LLC (Company) | Wallingford, CT | 09/21/18 | 09/19/18
94154 | Schmidbauer Lumber Inc. (State/One-Stop) | Eureka, CA | 09/21/18 | 09/20/18
94155 | Sierra Forest Products (State/One-Stop) | Terra Bella, CA | 09/21/18 | 09/20/18
94156 | Sierra Pacific Industries (State/One-Stop) | Arcata, CA | 09/21/18 | 09/20/18
94157 | Sierra Pacific Industries (State/One-Stop) | Burney, CA | 09/21/18 | 09/20/18
94158 | Siskiyou Forest Product (State/One-Stop) | Anderson, CA | 09/21/18 | 09/20/18
94159 | Trinity River Lumber Company (State/One-Stop) | Weaverville, CA | 09/21/18 | 09/20/18
94160 | Zebra Technologies Inc. (Workers) | Lincolnshire, IL | 09/21/18 | 09/20/18
94161 | Alpha Guardian (State/One-Stop) | Wauconda, IL | 09/24/18 | 09/21/18
94162 | Horizon Travel Services LLC DBA AlliedTPro (Workers) | Henderson, NV | 09/24/18 | 09/21/18
94163 | Partners Healthcare (State/One-Stop) | Somerville, MA | 09/24/18 | 09/22/18
94164 | Kayser-Roth Corporation (Company) | Dayton, TN | 09/25/18 | 09/21/18
94165 | Omnicare, a CVS Health Company (Workers) | Oklahoma City, OK | 09/25/18 | 08/10/18
94166 | Payless ShoeSource Worldwide, Inc. (State/One-Stop) | Topeka, KS | 09/25/18 | 09/25/18
94167 | A.R.E. Manufacturing, Inc. (State/One-Stop) | Newberg, OR | 09/26/18 | 09/25/18
94168 | Nuance Communications, Inc. (State/One-Stop) | Burlington, MA | 09/26/18 | 09/25/18
94169 | Pioneer Magnetics Inc. (State/One-Stop) | Santa Monica, CA | 09/26/18 | 09/24/18
94170 | STARTEK (Company) | Greeley, CO | 09/26/18 | 08/28/18
94171 | Deltic Timber Corporation (State/One-Stop) | Ola, AR | 09/27/18 | 09/25/18
94172 | Deltic Timber Corporation (State/One-Stop) | Waldo, AR | 09/27/18 | 09/25/18
94173 | Potlatch Corporation (Company) | Warren, AR | 09/27/18 | 09/25/18
94174 | Rose International at Suntrust Mortgage (State/One-Stop) | Ashburn, VA | 09/27/18 | 09/25/18
94175 | West Fraser, Inc. (State/One-Stop) | Leola, AR | 09/27/18 | 09/25/18
94176 | West Fraser, Inc. (State/One-Stop) | Mansfield, AR | 09/27/18 | 09/25/18
94177 | West Fraser, Inc. (Company) | Russellville, AR | 09/27/18 | 09/25/18
94178 | Weyerhaeuser NR Company (State/One-Stop) | Dierks, AR | 09/27/18 | 09/25/18
94179 | Voxpro LLC (Company) | Athens, GA | 09/27/18 | 09/26/18
94180 | Canfor Southern Pine—Urbana (State/One-Stop) | Strong, AR | 09/28/18 | 09/27/18
94181 | Jet Aviation (State/One-Stop) | Sauget, IL | 09/28/18 | 09/27/18
94182 | Aalfs Manufacturing, Inc. (State/One-Stop) | Sioux City, IA | 10/02/18 | 10/01/18
94183 | CSC Holdings, LLC (State/One-Stop) | Bethpage, NY | 10/02/18 | 09/28/18
94184 | Ames Textiles Inc. (State/One-Stop) | Christiansburg, VA | 10/02/18 | 09/27/18
94185 | Catalina Marketing Corporation (Company) | St. Petersburg, FL | 10/02/18 | 10/01/18
94186 | MediaNews Group, Inc. (State/One-Stop) | Colorado Springs, CO | 10/02/18 | 09/28/18
94187 | MBN (Middle East Broadcasting Networks) (State/One-Stop) | Springfield, VA | 10/02/18 | 09/28/18
94188 | Nokia of America Corporation (State/One-Stop) | Naperville, IL | 10/02/18 | 09/28/18
94189 | Siemens (State/One-Stop) | Trenton, NJ | 10/02/18 | 10/01/18
94190 | TDK Hutchinson Technology (Workers) | Eau Claire, WI | 10/02/18 | 10/01/18
94191 | Wells Fargo (State/One-Stop) | Saint Louis Park, MN | 10/02/18 | 09/28/18
94192 | West Fraser (State/One-Stop) | Huttig, AR | 10/02/18 | 09/28/18
94193 | American Medical Systems (State/One-Stop) | Hopkins, MN | 10/03/18 | 10/02/18
94194 | The Boeing Company El Paso Operations (Company) | El Paso, TX | 10/03/18 | 10/02/18
94195 | CCX Corporation (State/One-Stop) | Lafayette, CO | 10/03/18 | 10/02/18
94196 | Maximum Solutions (State/One-Stop) | Edina, MN | 10/03/18 | 10/02/18
94197 | Michigan Seamless Tube, LLS (State/One-Stop) | South Lyon, MI | 10/03/18 | 10/02/18
94198 | Sandoz Inc., a Novartis Division (State/One-Stop) | Broomfield, CO | 10/03/18 | 10/02/18
94199 | AIG Claim Services, Inc. (State/One-Stop) | Portland, OR | 10/04/18 | 10/03/18
94200 | Biewer Lumber (State/One-Stop) | Lake City, MI | 10/04/18 | 10/02/18
94201 | Culp Woven Velvets (Workers) | Anderson, SC | 10/04/18 | 09/27/18
94202 | DLR Group (State/One-Stop) | Minneapolis, MN | 10/04/18 | 10/03/18
94203 | Floturn, Inc. (State/One-Stop) | Fairfield, OH | 10/04/18 | 10/03/18
94204 | Hero BX (State/One-Stop) | Moundville, AL | 10/05/18 | 10/04/18
94205 | Sprint Enterprise and Government (Workers) | Irving, TX | 10/05/18 | 09/10/18
94206 | Sonoco Products (State/One-Stop) | Hollister, CA | 10/05/18 | 10/04/18
94207 | Alsco Industries, Inc. (Company) | Sturbridge, MA | 10/09/18 | 10/04/18
94208 | Ambit Management LLC (Company) | Plano, TX | 10/09/18 | 10/08/18
94209 | Computerized Management Services, Inc. (Workers) | Simi Valley, CA | 10/09/18 | 10/05/18
94210 | Emberex, Inc. (State/One-Stop) | Eugene, OR | 10/09/18 | 10/05/18
94211 | IBM (Workers) | San Ramon, CA | 10/09/18 | 10/05/18
94212 | Qualcomm Inc. (Workers) | San Diego, CA | 10/09/18 | 09/10/18
94213 | Citizens Bank NA (RBS Citizens Bank National Association) (State/One-Stop) | Glen Allen, VA | 10/09/18 | 10/05/18
94214 | IQVIA Inc. (State/One-Stop) | Chesapeake, VA | 10/09/18 | 10/04/18
94215 | The TJX Companies—Corporate I.T. (State/One-Stop) | Marlborough, MA | 10/09/18 | 10/09/18
94216 | Union Electric Akers (Union) | Avonmore, PA | 10/09/18 | 10/05/18
94217 | Windstream Communications (State/One-Stop) | Richmond, VA | 10/09/18 | 10/05/18
94218 | Caliber Home Loans (State/One-Stop) | Fairfax, VA | 10/10/18 | 10/09/18
94219 | Capital One US Card Operations (State/One-Stop) | Lincoln, NE | 10/10/18 | 10/09/18
94220 | Neff Motivations Inc. (State/One-Stop) | Greenville, OH | 10/10/18 | 10/09/18
94221 | Peak Sports USA Inc. (State/One-Stop) | Los Angeles, CA | 10/10/18 | 10/09/18
94222 | S-T Industries (State/One-Stop) | St. James, MN | 10/10/18 | 10/09/18
94223 | Wacom Technology Services Company (State/One-Stop) | Portland, OR | 10/10/18 | 10/09/18
94224 | Bank of America Merril Lynch Pierce Fenner Smith Inc. (State/One-Stop) | Jersey City, NJ | 10/11/18 | 09/13/18
94225 | General Electric Co. Transportation Division (State/One-Stop) | Erie, PA | 10/11/18 | 10/10/18
94226 | Parallon (State/One-Stop) | Irvine, CA | 10/11/18 | 10/11/18
94227 | Franke Kitchen Systems LLC (Company) | Ruston, LA | 10/12/18 | 10/12/18
94228 | Zodiac Pool Systems Inc. (State/One-Stop) | Vista, CA | 10/12/18 | 10/11/18
94229 | CCS Medical, Inc. (Workers) | Farmers Branch, TX | 10/15/18 | 10/12/18
94230 | Heritage Home Group Inc. (3+ Locations in NC) (State/One-Stop) | , NC | 10/15/18 | 10/05/18
94231 | Arjo Inc. (State/One-Stop) | San Antonio, TX | 10/16/18 | 10/15/18
94232 | CH2M Hill Engineers (Company) | Boise, ID | 10/16/18 | 10/15/18
94233 | Del Monte Foods, Inc. (State/One-Stop) | Crystal City, TX | 10/16/18 | 10/15/18
94234 | Global Brands Group (State/One-Stop) | Los Angeles, CA | 10/16/18 | 10/12/18
94235 | MedPlast—Viant (State/One-Stop) | Monticello, IA | 10/16/18 | 10/15/18
94236 | Virginia Plot-Media Companies, LLC (State/One-Stop) | Norfolk, VA | 10/16/18 | 10/15/18
94237 | Trelleborg (State/One-Stop) | Houston, TX | 10/16/18 | 10/15/18
94238 | Wilbrecht LEDCO, Inc. (State/One-Stop) | Huron, SD | 10/16/18 | 10/15/18
94239 | Carlson Wagonlit Travel (State/One-Stop) | Minnetonka, MN | 10/17/18 | 10/16/18
94240 | D & H Corporation (State/One-Stop) | San Francisco, CA | 10/17/18 | 10/16/18
94241 | Daikin Applied (State/One-Stop) | Verona, VA | 10/17/18 | 10/16/18
94242 | IBM Corporation (State/One-Stop) | Southbury, CT | 10/17/18 | 10/16/18
94243 | Indivior Pharmaceuticals (State/One-Stop) | Richmond, VA | 10/17/18 | 10/16/18
94244 | Pitney Bowes Inc. (State/One-Stop) | Neenah, WI | 10/17/18 | 10/16/18
94245 | Wargaming (State/One-Stop) | Redmond, WA | 10/17/18 | 10/15/18
94246 | Centric Parts (State/One-Stop) | Carson, CA | 10/18/18 | 10/17/18
94247 | TaskEasy (Company) | Salt Lake City, UT | 10/19/18 | 10/18/18
94248 | Loud Audio LLC (State/One-Stop) | Woodinville, WA | 10/19/18 | 10/16/18

[FR Doc. 2018-26191 Filed 11-30-18; 8:45 am]

BILLING CODE 4510-FN-P